DEPARTMENT OF COMMERCE

Foreign-Trade Zones Board

[B-43-2014]

Notification of Proposed Production Activity; Suzuki Manufacturing of America Corporation, Subzone 26L (All-Terrain Vehicles), Rome, Jonesboro and Cartersville, Georgia

Georgia Foreign-Trade Zone, Inc., grantee of FTZ 26, submitted a notification of proposed production activity to the FTZ Board on behalf of Suzuki Manufacturing of America Corporation (SMAC), operator of Subzone 26L, at its facilities located in Rome, Jonesboro and Cartersville, Georgia. The notification conforming to the requirements of the regulations of the FTZ Board (15 CFR 400.22) was received on May 21, 2014.

SMAC already has authority to produce all-terrain vehicles (ATVs) and related components (carriers, footrests, fuel tanks, grips/handle bars, frames, rear box assemblies). The current request would add certain foreign components to the scope of authority. Pursuant to 15 CFR 400.14(b), FTZ activity would be limited to the specific foreign-status components and specific finished products described in the submitted notification (as described below) and subsequently authorized by the FTZ Board.

Production under FTZ procedures could exempt SMAC from customs duty payments on the foreign status components used in export production. On its domestic sales, SMAC would be able to choose the duty rate during customs entry procedures that applies to ATVs, carriers, footrests, fuel tanks, grips/handle bars, frames, and rear box assemblies (2.5%) for the foreign status inputs noted below and in the existing scope of authority. Customs duties also could possibly be deferred or reduced on foreign status production equipment.

The components and materials sourced from abroad include: Plastic resins; chip plates; rubber hoses with/without fittings; rubber v-belts; tires and tubes; steel tubing; runners/banners; printed books/manuals/brochures; chain cam/oil pump drives; fasteners, of steel and aluminum; aluminum gaskets; mountings and brackets; fenders; oil strainers; crankshaft bearings and assemblies; bearing housings; metal gaskets; stainless o-rings; batteries; spark plugs; starter motors; capacitive discharge ignition (CDI) units; magnetos; compact disc sets; gaskets (copper, paper); gear shift assemblies; light bulbs; KD parts of ATVs; gear/fork shafts; therma-coupler nozzles; speedometers; and, battery plates (duty rate ranges from free to 9.0%).

Public comment is invited from interested parties. Submissions shall be addressed to the FTZ Board's Executive Secretary at the address below. The closing period for their receipt is July 22, 2014.

A copy of the notification will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Pierre Duy at Pierre.Duy@trade.gov or (202) 482-1378.

Dated: June 6, 2014.
Andrew McGilvray,
Executive Secretary.

[FR Doc. 2014-13785 Filed 6-11-14; 8:45 am]

BILLING CODE 3510-DS-P